ENVIRONMENTAL PROTECTION AGENCY

[OPP-2003-0170; FRL-7320-7]

Diazinon; Product Registrations Cancellation Order

AGENCY: Environmental Protection Agency (EPA).

ACTION: Notice.

SUMMARY: This notice announces EPA's cancellation order for the cancellations, as requested by Syngenta Crop Protection, Inc., of all of Syngenta's registrations for products containing diazinon (O,O-Diethyl O-(2-isopropyl-6-methyl-4-pyrimidinyl) phosphorothioate) and accepted by EPA, pursuant to section 6(f) of the Federal Insecticide, Fungicide, and Rodenticide Act (FIFRA). This order follows up a May 30, 2003 Notice of Receipt of Requests from Syngenta for cancellations of all of Syngenta's diazinon product registrations. In the May 30, 2003 Notice, EPA indicated that it would issue an order granting the voluntary product registration cancellations, unless the Agency received substantive comments within the comment period that would merit its further review of these requests. The Agency received one set of comments, which were in support of the cancellation requests. Accordingly, EPA hereby issues in this notice a cancellation order granting the requested cancellations. Any distribution, sale, or use of the products subject to this cancellation order is only permitted in accordance with the terms of the existing stocks provisions of this cancellation order.

DATES: The cancellations are effective immediately.

FOR FURTHER INFORMATION CONTACT: Stephanie Plummer, Special Review and Reregistration Division (7508C), Office of Pesticide Programs, Environmental Protection Agency, 1200 Pennsylvania Ave., NW., Washington, DC 20460-0001; telephone number: (703) 305-0076; e-mail address: plummer.stephanie@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0170. The official public docket consists of the documents specifically referenced in this action, any public comments received, and other information related to this action. Although a part of the official docket, the public docket does not include Confidential Business Information (CBI) or other information whose disclosure is restricted by statute. EPA also established two dockets containing documents in support of the diazinon IRED. They are dockets OPP-34225 and OPP-2002-0251. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces cancellation, as requested by Syngenta, of all of Syngenta's diazinon products registered under section 3 of FIFRA. These registrations are listed in sequence by registration number in Tables 1, 2, and 3 of this unit.

A. Background Information

Diazinon is an organophosphorous insecticide and is one of the most widely used insecticides in the U.S. It is used for outdoor non-agricultural, as well as agricultural, pest control.

Under a December 5, 2000 Memorandum of Agreement (MOA) between Syngenta Crop Protection, Inc. and EPA, Syngenta requested, under FIFRA section 6(f), that EPA cancel, effective as of June 30, 2003, the registrations of all of Syngenta's diazinon manufacturing-use products permitting formulation for outdoor non-agricultural use. In the MOA, EPA expressed that it would not contemplate permitting sale, distribution or use of existing stocks of these outdoor non-agricultural manufacturing-use products, except for return to the Registrant for purposes of re-labeling for export or disposal. In a letter dated April 8, 2003, Syngenta Crop Protection, Inc. requested a voluntary cancellation of all its remaining registrations for products containing diazinon, to be effective June 30, 2003. The request applied to outdoor non-agricultural end-use products and agricultural products. The request is contingent upon EPA's granting of certain existing stocks provisions, which are set forth in Unit V. EPA announced its receipt of the above-mentioned cancellation requests in a Federal Register Notice dated May 30, 2003 (68 FR 32501) (FRL-7309-2).

Syngenta's April 8, 2003 request for cancellations is consistent with the December 5, 2000 MOA. EPA has approved both the December 5, 2000 and the April 8, 2003 requests to terminate registrations for all of Syngenta's diazinon products and has published its cancellation order in this Notice. All of Syngenta's diazinon products subject to cancellation, which include outdoor non-agricultural and agricultural product registrations, are identified in Tables 1, 2, and 3 of this unit.

The Reregistration Eligibility Decision (RED) document summarizes the findings of EPA's reregistration process for individual chemical cases, and reflects the Agency's decision on risk assessment and risk management for uses of the individual pesticides known as organophosphates (OPs). EPA has issued an Interim Reregistration Eligibility Decision (IRED) document assessing the risks of exposure from agricultural uses of diazinon.

B. Requests for Voluntary Cancellations

The manufacturing-use product registrations for which cancellation was requested are identified below in Table 1. The end-use product registrations for which cancellation was requested are identified below in Tables 2 and 3. EPA did not receive any substantive comments regarding these product registrations. Accordingly, the Agency has issued an order in this notice canceling the registrations identified in Tables 1, 2, and 3.

Table 1.—Manufacturing-Use Product Registration Cancellation Requests
Registration No. | Product Name | Chemical Name
100-977 | D·z·n diazinon MG 56% WBC AG | Diazinon
100-978 | D·z·n diazinon MG 22.4% WBC HG | Diazinon
100-979 | D·z·n diazinon MG 87% HG | Diazinon
100-980 | D·z·n diazinon MG 87% AG | Diazinon

Table 2.—Outdoor Non-Agricultural End-Use Product Registration Cancellation Requests
Registration No. | Product Name | Chemical Name
100-456 | D·z·n Lawn & Garden Insect Control | Diazinon
100-468 | D·z·n Granular Lawn Insect Control | Diazinon
100-528 | D·z·n 6000 Lawn & Garden Insect Control | Diazinon
100-770 | D·z·n diazinon Lawn & Garden WBC | Diazinon
100-926 | D·z·n diazinon Garden Insect Dust | Diazinon

Table 3.—Agricultural End-Use Product Registration Cancellation Requests
Registration No. | Product Name | Chemical Name
100-460 | D·z·n diazinon 50W | Diazinon
100-461 | D·z·n diazinon AG500 | Diazinon
100-469 | D·z·n diazinon 14G | Diazinon
100-784 | D·z·n diazinon AG600 WBC | Diazinon

Table 4 of this unit includes the name and address of record for the registrant of the products in Tables 1, 2, and 3 of this unit:

Table 4.—Registrant Requesting Voluntary Cancellation
EPA Company No. | Company Name and Address
100 | Syngenta Crop Protection, Inc, P.O. Box 18300, Greensboro, NC 27419-8300

III. Cancellation Order

Pursuant to section 6(f) of FIFRA, EPA hereby approves the requested cancellations of diazinon product registrations identified in Tables 1, 2, and 3 in Unit II. Accordingly, the Agency orders that the diazinon manufacturing-use product registrations identified in Table 1 in Unit II., as well as the end-use product registrations listed in Tables 2 and 3 in Unit II., are hereby canceled. Any distribution, sale, or use of existing stocks of the products identified in Tables 1, 2, and 3 in Unit II. in a manner inconsistent with any of the Provisions for Disposition of Existing Stocks set forth below in Unit V. will be considered a violation of FIFRA.

IV. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

V. Provisions for Disposition of Existing Stocks

Existing stocks are those stocks of registered pesticide products which are currently in the United States and which have been packaged, labeled, and released for shipment prior to the effective date of the cancellation action. The cancellation order issued in this Notice includes the following existing stocks provisions.

A. Outdoor Non-Agricultural Manufacturing-Use Products

1. Distribution or sale. The distribution or sale of existing stocks of any outdoor non-agricultural manufacturing-use product identified in Table 1 in Unit II. is no longer lawful under FIFRA, except for the purposes of export consistent with FIFRA section 17 and proper disposal in accordance with applicable law.

2. Use for producing other products. The use of existing stocks of any manufacturing-use product identified in Table 1 in Unit II. for formulation into any other product labeled for outdoor non-agricultural use is no longer lawful under FIFRA.

B. Outdoor Non-Agricultural End-Use Products

1. Distribution or sale by registrant. The distribution, or sale, of existing stocks by Syngenta of any product listed in Table 2 in Unit II. will not be lawful under FIFRA after August 31, 2003, except for purposes of shipping such stocks for export consistent with the requirements of FIFRA section 17 or proper disposal in accordance with applicable law.

2. Retail and other distribution or sale. The distribution or sale of existing stocks by persons other than Syngenta will be prohibited after December 31, 2004, except for purposes of product recovery pursuant to the 2000 MOA, shipping such stocks for export consistent with the requirements of FIFRA section 17, or proper disposal in accordance with applicable law.

3. Use of existing stocks. Use of existing stocks may continue until stocks are exhausted. Any such use must be in accordance with the label.

C. Agricultural Manufacturing-Use Products

1. Distribution or sale, or use by registrant. The distribution, sale, or use of existing stocks by Syngenta of any manufacturing-use product identified in Table 1 in Unit II. for formulation into any other product labeled for agricultural use will not be lawful under FIFRA after August 31, 2003, except for purposes of shipping such stocks for export consistent with the requirements of section 17 of FIFRA, or proper disposal in accordance with applicable law.

2. Retail and other distribution, sale, or use. The distribution, sale, or use of existing stocks of any manufacturing-use product identified in Table 1 in Unit II. for formulation into any other product labeled for agricultural use by any person other than Syngenta may continue until stocks are exhausted. Any such use must be in accordance with the label.

D. Agricultural End-Use Products

1. Distribution or sale by registrant. The distribution or sale of existing stocks by Syngenta of any product listed in Table 3 in Unit II. will not be lawful under FIFRA after August 31, 2003, except for purposes of shipping for exports consistent with the requirements of FIFRA section 17 or proper disposal in accordance with the applicable law.

2. Retail and other distribution, sale, or use. The distribution, sale, or use of existing stocks by any person other than Syngenta may continue until stocks are exhausted. Any such use must be in accordance with the label.

List of Subjects

Environmental protection, Pesticides and pests.

Dated: August 20, 2003.
Betty Shackleford,
Acting Director, Special Review and Reregistration Division, Office of Pesticide Programs.

[FR Doc. 03-22317 Filed 9-2-03; 8:45 am]

BILLING CODE 6560-50-S